DEPARTMENT OF HOMELAND SECURITY

Federal Emergency Management Agency

[Docket ID FEMA-2021-0002; Internal Agency Docket No. FEMA-B-2166]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 27, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2166, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Miami-Dade County, Florida and Incorporated Areas
Project: 15-04-4157S Preliminary Date: February 25, 2021
City of Aventura | Community Development Department, 19200 West Country Club Drive, Aventura, FL 33180.
City of Coral Gables | City Hall—Building Division, 405 Biltmore Way, 3rd Floor, Coral Gables, FL 33134.
City of Doral | Building Department, 8401 Northwest 53rd Terrace, Doral, FL 33166.
City of Florida City | Building Department, 404 West Palm Drive, Florida City, FL 33034.
City of Hialeah | Building Department, 501 Palm Avenue, Hialeah, FL 33010.
City of Hialeah Gardens | City Hall, 10001 Northwest 87th Avenue, Hialeah Gardens, FL 33016.
City of Homestead | City Hall—Building and Safety Division, 100 Civic Court, Homestead, FL 33030.
City of Miami | Planning and Zoning Building Department, 444 Southwest 2nd Avenue, 4th Floor, Miami, FL 33130.
City of Miami Beach | Building Department, 1700 Convention Center Drive, Miami Beach, FL 33139.
City of Miami Gardens | Building Department, 18605 Northwest 27th Avenue, Miami Gardens, FL 33056.
City of Miami Springs | Building Department, 201 Westward Drive, Miami Springs, FL 33166.
City of North Bay Village | City Hall—Building Department, 1666 79th Street Causeway, 3rd Floor, North Bay Village, FL 33141.
City of North Miami | Public Works Department, 776 Northeast 125th Street, 3rd Floor, North Miami, FL 33161.
City of North Miami Beach | Building, Planning, and Zoning Department, 17050 Northeast 19th Avenue, 1st Floor, North Miami Beach, FL 33162.
City of Opa-Locka | Building Department, 780 Fisherman Street, 4th Floor, Opa-Locka, FL 33054.
City of South Miami | Planning and Zoning Department, 6130 Sunset Drive, South Miami, FL 33143.
City of Sunny Isles Beach | Building Department, 3rd Floor, 18070 Collins Avenue, Sunny Isles Beach, FL 33160.
City of Sweetwater | Engineering Division, 1701 Northwest 112th Avenue, Unit 103, Sweetwater, FL 33172.
City of West Miami | Public Works Department, 901 Southwest 62nd Avenue, West Miami, FL 33144.
Town of Bay Harbor Islands | Building Department, 9665 Bay Harbor Terrace, Bay Harbor Islands, FL 33154.
Town of Cutler Bay | Public Works Department, 10720 Caribbean Boulevard, Suite 105, Cutler Bay, FL 33189.
Town of Golden Beach | Building Department, 1 Golden Beach Drive, Golden Beach, FL 33160.
Town of Medley | Town Hall, 7777 Northwest 72nd Avenue, Medley, FL 33166.
Town of Miami Lakes | Town Hall, 6601 Main Street, Miami Lakes, FL 33014.
Town of Surfside | Building Department, 9293 Harding Avenue, Surfside, FL 33154.
Unincorporated Areas of Miami-Dade County | Miami-Dade County Water Management Division, 701 Northwest 1st Court, 5th Floor, Miami, FL 33136.
Village of Bal Harbour Village | Building Department, 655 96th Street, Bal Harbour Village, FL 33154.
Village of Biscayne Park | Village Hall, 600 Northeast 114th Street, Biscayne Park, FL 33161.
Village of El Portal | Village Hall, 500 Northeast 87th Street, El Portal, FL 33138.
Village of Indian Creek Village | Village Hall, 9080 Bay Drive, Indian Creek Village, FL 33154.
Village of Key Biscayne | Building Department, 88 West McIntyre Street, Key Biscayne, FL 33149.
Village of Miami Shores Village | Village Hall—Planning and Zoning Department, 10050 Northeast 2nd Avenue, Miami Shores Village, FL 33138.
Village of Palmetto Bay | Building Department, 9705 East Hibiscus Street, Palmetto Bay, FL 33157.
Village of Pinecrest | Building and Planning Department, 12645 Pinecrest Parkway, Pinecrest, FL 33156.
Village of Virginia Gardens | Village Hall, 6498 Northwest 38th Terrace, Virginia Gardens, FL 33166.

[FR Doc. 2021-20981 Filed 9-27-21; 8:45 am]

BILLING CODE 9110-12-P